FEDERAL COMMUNICATIONS COMMISSION

Notice of Public Information Collection(s) Being Reviewed by the Federal Communications Commission for Extension Under Delegated Authority

October 24, 2006.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments January 2, 2007. If you anticipate that you will be submitting comments, but find it difficult to do so within the period of time allowed by this notice, you should advise the contact listed below as soon as possible.

ADDRESSES: Direct all PRA comments to Allison E. Zaleski, Office of Management and Budget (OMB), Room 10236 NEOB, Washington, DC 20503, (202) 395-6466, or via fax at 202-395-5167, or via the Internet at Allison_E._Zaleski@eop.omb.gov and to Judith-B.Herman@fcc.gov, Federal Communications Commission (FCC), Room 1-B441, 445 12th Street, SW., Washington, DC 20554. To submit your comments by e-mail send them to: PRA@fcc.gov. If you would like to obtain or view a copy of this information collection after the 60 day comment period, you may do so by visiting the FCC PRA Web page at: http://www.fcc.gov/omd/pra.

FOR FURTHER INFORMATION CONTACT: For additional information about the information collection(s) send an e-mail to PRA@fcc.gov or contact Judith B. Herman at 202-418-0214.

SUPPLEMENTARY INFORMATION: OMB Control No.: 3060-0955.

Title: 2 GHz Mobile Satellite Service Reports.

Form No.: N/A.

Type of Review: Extension of a currently approved collection.

Respondents: Business or other for-profit.

Number of Respondents: 9.

Estimated Time Per Response: 3 hours.

Frequency of Response: On occasion and annual reporting requirements and recordkeeping requirement.

Total Annual Burden: 27 hours.

Annual Cost Burden: $18,000.

Privacy Act Impact Assessment: N/A.

Needs and Uses: This collection will be submitted as an extension (no change in reporting requirements) after this 60 day comment period to Office of Management and Budget (OMB) in order to obtain the full three year clearance. There is no change in respondents or burden hours/costs.

The 2 GHz mobile satellite service (MSS) rules are contained in 47 CFR part 25 of the Federal Communications Commission's (“Commission”) rules. If planned post-mission disposal involves atmospheric re-entry of spacecraft, 2 GHz MSS licensees are required to disclose such information in the form of a narrative statement, through amendments to applications or letters of intent, or orbital debris mitigation design and operational strategies. Additionally, the rules require that 2 GHz MSS licensees submit a casualty risk assessment to the Commission. This requirement permits the Commission and the public to comment on each system's design. Two GHz mobile satellite systems receiving expansion spectrum as part of the rural and unserved areas spectrum incentive must provide a report on the actual number of subscriber minutes originating or terminating in unserved areas as a percentage of the actual U.S. system use. This rule permits the Commission to verify that service is being provided in rural unserved areas. In addition, system proponents will have to complete critical design review (CDR) within two years of authorization. CDR is a milestone for satellite services and permits the Commission to more closely monitor system construction. Without such information, the Commission could not determine whether satellite licensees are operating in conformance with the Commission's rules.

OMB Control No.: 3060-0994.

Title: Flexibility for Delivery of Communications by Mobile Satellite Service (MSS) Providers in the 2 GHz Band, the L-Band, and the 1.6/2.4 GHz Band.

Form No.: N/A.

Type of Review: Extension of a currently approved collection.

Respondents: Business or other for-profit.

Number of Respondents: 161.

Estimated Time Per Response: .50—50 hours.

Frequency of Response: On occasion, annual, and one-time reporting requirements, recordkeeping requirement and third party disclosure requirement.

Total Annual Burden: 1,326 hours.

Annual Cost Burden: $158,000.

Privacy Act Impact Assessment: N/A.

Needs and Uses: This collection will be submitted as an extension (no change in reporting requirements) after this 60 day comment period to Office of Management and Budget (OMB) in order to obtain the full three year clearance. There is no change in respondents or burden hours/costs.

On February 5, 2003, the Federal Communications Commission (“Commission”) released a Report and Order (R&O) and Notice of Proposed Rulemaking (NPRM), in IB Docket Nos. 01-185 and 02-364, FCC 03-15. The R&O permitted Mobile Satellite Service (MSS) providers to integrate ancillary terrestrial components (ATCs) into their MSS networks. The benefits of MSS providers integrating ATCs into their MSS networks are to: (1) Increase the efficiency of spectrum use through MSS network integration and terrestrial reuse and permit better coverage in areas that MSS providers could not otherwise serve; (2) reduce costs, eliminate efficiencies and enhance operational ability in MSS systems; (3) provide additional communications that may enhance public protection; and (4) strengthen competition in the markets served by MSS.

The decisions adopted in the R&O resulted in the implementation of information collection requirements that are necessary to facilitate the Commission's rules addressed in Parts 2 and 25. The purposes of the information collection are for the Commission to license commercial satellite services in the United States; obtain the legal and technical information required to facilitate the integration of ATCs into MSS networks in the 2 GHz Band, the L-Band, and the 1.6/2.4 GHz Bands; and to ensure that the licensees meet the Commission's legal and technical requirements to develop and maintain MSS networks while conserving limited spectrum for other telecommunications services. Without this collection of information, the Commission would not have the necessary information to grant entities the authority to operate or provide their services to consumers.

OMB Control No.: 3060-1054.

Title: Application for Renewal of an International Broadcast Station License.

Form No.: FCC Form 422-IB.

Type of Review: Extension of a currently approved collection.

Respondents: Business or other for-profit.

Number of Respondents: 10 respondents; 60 responses.

Estimated Time Per Response: 6 hours.

Frequency of Response: On occasion, annual, and other reporting requirements.

Total Annual Burden: 60 hours.

Annual Cost Burden: $32,000.

Privacy Act Impact Assessment: N/A.

Needs and Uses: This collection will be submitted as an extension (no change in reporting requirements) after this 60 day comment period to Office of Management and Budget (OMB) in order to obtain the full three year clearance. There is no change in respondents or burden hours/costs.

The Commission's proposed the development of FCC Form 422-IB to facilitate the Commission's goal to implement electronic filing of the form and to accommodate any changes to the form in the future. International broadcasters will file the FCC Form 422-IB in lieu of FCC Form 311. The implementation of this proposal is contingent upon the receipt of budget funds and the availability of technical staff.

OMB Control No.: 3060-1055.

Title: Application for Permit to Deliver Programs to Foreign Broadcast Stations.

Form No.: FCC Form 423-IB.

Type of Review: Extension of a currently approved collection.

Respondents: Business or other for-profit.

Number of Respondents: 30 respondents; 240 responses.

Estimated Time Per Response: 8 hours (average).

Frequency of Response: On occasion, annual, and other reporting requirements.

Total Annual Burden: 240 hours.

Annual Cost Burden: $62,000.

Privacy Act Impact Assessment: N/A.

Needs and Uses: This collection will be submitted as an extension (no change in reporting requirements) after this 60 day comment period to Office of Management and Budget (OMB) in order to obtain the full three year clearance. There is no change in respondents or burden hours/costs.

The Commission's proposed the development of FCC Form 423-IB to facilitate the Commission's goal to implement electronic filing of the form and to accommodate any changes to the form in the future. International broadcasters will file the FCC Form 423-IB in lieu of FCC Form 308. The implementation of this proposal is contingent upon the receipt of budget funds and the availability of technical staff.

OMB Control No.: 3060-1056.

Title: Application for an International Broadcast Station License.

Form No.: FCC Form 421-IB.

Type of Review: Extension of a currently approved collection.

Respondents: Business or other for-profit.

Number of Respondents: 10 respondents; 120 responses.

Estimated Time Per Response: 12 hours.

Frequency of Response: On occasion, annual, and other reporting requirements.

Total Annual Burden: 120 hours.

Annual Cost Burden: $36,000.

Privacy Act Impact Assessment: N/A.

Needs and Uses: This collection will be submitted as an extension (no change in reporting requirements) after this 60 day comment period to Office of Management and Budget (OMB) in order to obtain the full three year clearance. There is no change in respondents or burden hours/costs.

The Commission's proposed the development of FCC Form 421-IB to facilitate the Commission's goal to implement electronic filing of the form and to accommodate any changes to the form in the future. International broadcasters will file the FCC Form 421-IB in lieu of FCC Form 310. The implementation of this proposal is contingent upon the receipt of budget funds and the availability of technical staff.

OMB Control No.: 3060-1057.

Title: Application for Authority to Construct or Make Changes in an International Broadcast Station.

Form No.: FCC Form 420-IB.

Type of Review: Extension of a currently approved collection.

Respondents: Business or other for-profit.

Number of Respondents: 10 respondents; 160 responses.

Estimated Time Per Response: 16 hours.

Frequency of Response: On occasion, annual, and other reporting requirements.

Total Annual Burden: 160 hours.

Annual Cost Burden: $44,000.

Privacy Act Impact Assessment: N/A.

Needs and Uses: This collection will be submitted as an extension (no change in reporting requirements) after this 60 day comment period to Office of Management and Budget (OMB) in order to obtain the full three year clearance. There is no change in respondents or burden hours/costs.

The Commission's proposed the development of FCC Form 420-IB to facilitate the Commission's goal to implement electronic filing of the form and to accommodate any changes to the form in the future. International broadcasters will file the FCC Form 420-IB in lieu of FCC Form 309. The implementation of this proposal is contingent upon the receipt of budget funds and the availability of technical staff. If the Commission did not collect this information, it would not be in a position to effectively coordinate spectrum for international broadcasters or to act for entities in times of frequency interference or adverse propagation conditions. The orderly nature of the provision of international broadcast service would be in jeopardy without the Commission's involvement.

Federal Communications Commission.
Marlene H. Dortch,
Secretary.

[FR Doc. E6-18297 Filed 10-31-06; 8:45 am]

BILLING CODE 6712-01-P